DEPARTMENT OF COMMERCE

Economic Development Administration

[Docket No.: 080213181-8811-01]

RIN 0610-AA64

13 CFR Parts 301, 302, 303, 305, 307, 308, 310, 314 and 315

Revisions to the EDA Regulations

AGENCY: Economic Development Administration, Department of Commerce

ACTION: Extension of public comment period on interim final rule.

SUMMARY: On October 22, 2008, the Economic Development Administration (“EDA”) published an interim final rule in the Federal Register. This document extends the deadline for submitting public comments on the interim final rule from December 22, 2008 until January 22, 2009. The extension of the public comment period is necessary to provide additional time for the submission of public comments and to allow for EDA's additional consideration of matters pertaining to the effective implementation of the interim final rule.

DATES: The deadline for submitting public comments on the interim final rule is extended from 5 p.m. (EST) on December 22, 2008 until 5 p.m. (EST) on January 22, 2009.

FOR FURTHER INFORMATION CONTACT: Office of Chief Counsel, ATTN: Hina Shaikh, Economic Development Administration, Department of Commerce, Room 7005, 1401 Constitution Avenue, NW., Washington, DC 20230; telephone: (202) 482-4687.

SUPPLEMENTARY INFORMATION: EDA published an interim final rule (“IFR”) in the Federal Register (73 FR 62858) on October 22, 2008. In March 2007, the Office of the Inspector General published a report titled Aggressive EDA Leadership and Oversight Needed to Correct Persistent Problems in the RLF Program. In the time since the publication of this report, EDA has made significant improvements in the management and oversight of its revolving loan fund (“RLF”) program, including the issuance of written guidance that provides EDA staff with reasonable steps to help better ensure grantee compliance with RLF requirements. EDA published the interim final rule to synchronize the RLF regulations with that guidance. Additionally, EDA published the IFR to make changes to certain definitions in the Trade Adjustment Assistance for Firms Program regulations set out in 13 CFR part 315. The IFR also provided notice of other substantive and non-substantive revisions made to the EDA regulations.

This document extends the deadline for submitting public comments on the entire interim final rule from 5 p.m. (EST) on December 22, 2008 until 5 p.m. (EST) on January 22, 2009. The procedure for submitting public comments is set forth in the interim final rule and is not changed by this document. The extension of the public comment period is necessary to provide additional time for the submission of public comments and to allow for EDA's additional consideration of matters pertaining to the effective implementation of the interim final rule.

Executive Order No. 12866

It has been determined that this final rule is not significant for purposes of Executive Order 12866.

Congressional Review Act

This document is not “major” under the Congressional Review Act (5 U.S.C. 801 et seq.).

Executive Order No. 13132

Executive Order 13132 requires agencies to develop an accountable process to ensure “meaningful and timely input by State and local officials in the development of regulatory policies that have federalism implications.” “Policies that have federalism implications” is defined in Executive Order 13132 to include regulations that have “substantial direct effects on the States, on the relationship between the national government and the States, or on the distribution of power and responsibilities among the various levels of government.” It has been determined that this document does not contain policies that have federalism implications.

Dated: December 10, 2008.
Otto Barry Bird,
Chief Counsel, Economic Development Administration.

[FR Doc. E8-29708 Filed 12-15-08; 8:45 am]

BILLING CODE 3510-24-P